DEPARTMENT OF COMMERCE

International Trade Administration

[A-552-801]

Certain Frozen Fish Fillets From the Socialist Republic of Vietnam: Rescission of Antidumping Duty New Shipper Review; 2013-2014

AGENCY: Enforcement and Compliance, International Trade Administration, Department of Commerce.

SUMMARY: In response to a request from BASA Joint Stock Company (“BASACO”), the Department of Commerce (“Department”) initiated a new shipper review of the antidumping duty order on certain frozen fish fillets from the Socialist Republic of Vietnam (“Vietnam”) covering the period August 1, 2013, through July 31, 2014.¹ On November 4, 2014, BASACO timely withdrew its request for a new shipper review. Accordingly, the Department is rescinding the new shipper review with respect to BASACO.

¹ See Certain Frozen Fish Fillets from the Socialist Republic of Vietnam: Initiation of Antidumping Duty New Shipper Review; 2013-2014, 79 FR 59476 (October 2, 2014) (“Initiation Notice”).

DATES: Effective Date: December 5, 2014.

FOR FURTHER INFORMATION CONTACT: Alexander Montoro, AD/CVD Operations, Office V, Enforcement and Compliance, International Trade Administration, U.S. Department of Commerce, 14th Street and Constitution Avenue NW., Washington, DC 20230; telephone: (202) 482-0238.

Rescission of New Shipper Review

On September 24, 2014, the Department initiated a new shipper review of BASACO.² On November 4, 2014, BASACO withdrew its new shipper review request.³ 19 CFR 351.214(f)(1) provides that the Department may rescind a new shipper review if the party that requested the review withdraws its request for review within 60 days of the date of publication of the notice of initiation of the requested review in the Federal Register. Because BASACO timely withdrew its request for a new shipper review (i.e., 33 days after the date of publication of the notice of initiation of the requested review), the Department is rescinding the new shipper review of the antidumping duty order on certain frozen fish fillets from Vietnam with respect to BASACO. Consequently, BASACO will remain part of the Vietnam-wide entity.

² Id.

³ See letter from BASACO entitled “Withdrawal of Request for New Shipper Review: Certain Frozen Fish Fillets from the Socialist Republic of Vietnam: Review Period—8/1/13-7/31/14,” dated November 4, 2014.

Assessment

Because BASACO remains part of the Vietnam-wide entity, it remains under review in the ongoing administrative review of the antidumping duty order of certain frozen fish fillets from Vietnam covering the period August 1, 2013, to July 31, 2014.⁴ Therefore, the Department will not order liquidation of entries for BASACO. The Department intends to issue liquidation instructions for the Vietnam-wide entity, which will cover any entries by BASACO, 15 days after publication of the final results of the administrative review covering the period August 1, 2013, to July 31, 2014 in the Federal Register.

⁴ See Initiation of Antidumping and Countervailing Duty Administrative Reviews, 79 FR 58729, 58731 (Sept. 30, 2014).

Cash Deposit

The Department will notify U.S. Customs and Border Protection (“CBP”) that bonding is no longer permitted to fulfill security requirements for subject merchandise produced and exported by BASACO that is entered, or withdrawn from warehouse, for consumption in the United States on or after the publication of this rescission notice in the Federal Register. The Department will notify CBP that a cash deposit of 2.11 U.S. Dollars per kilogram should be collected for all shipments of subject merchandise by BASACO entered, or withdrawn from warehouse, for consumption in the United States on or after the publication of this rescission notice.⁵

⁵ See Certain Frozen Fish Fillets from the Socialist Republic of Vietnam: Amended Final Results of Antidumping Duty Administrative Review; 2011-2012, 79 FR 37714, 37715 (July 2, 2014).

Notifications to Interested Parties

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (“APO”) of their responsibility concerning the return or destruction of proprietary information disclosed under APO in accordance with 19 CFR 351.305(a). Timely written notification of the return or destruction of APO materials, or conversion to judicial protective order, is hereby requested. Failure to comply with the regulations and terms of an APO is a violation which is subject to sanction.

We are issuing and publishing this rescission and notice in accordance with sections 751(a)(2)(B) and 777(i) of the Act and 19 CFR 351.214(f)(3).

Dated: November 20, 2014.
Gary Taverman,
Associate Deputy Assistant Secretary for Antidumping and Countervailing Duty Operations.

[FR Doc. 2014-28583 Filed 12-4-14; 8:45 am]

BILLING CODE 3510-DS-P